DEPARTMENT OF ENERGY

Federal Energy Regulatory Commission

[Docket Nos. CP20-55-000, PF19-5-000]

Port Arthur LNG Phase II, LLC; PALNG Common Facilities Company, LLC; Notice of Application

Take notice that on February 19, 2020, Port Arthur LNG Phase II, LLC (Phase II) 2925 Briarpark, Suite 900, Houston, Texas 77042, and PALNG Common Facilities Company, LLC (PCFC, collectively with PALNG Phase II, Applicants), 2925 Briarpark, Suite 900, Houston, Texas 77042, filed an application pursuant to section 3 of the Natural Gas Act and Part 153 of the Commission's regulations, requesting authorization to expand the Port Arthur LNG Liquefaction Terminal authorized under Docket No. CP17-20-000, Port Arthur LNG, LLC, 167 FERC ¶ 61,052 (2019), located in Jefferson County, Texas (Expansion Project). The Expansion Project includes two liquefaction trains (Trains 3 and 4), each with its own gas treatment facilities and each capable of producing 6.73 million tons per annum under optimal conditions, along with associated utilities and infrastructure related to Trains 3 and 4.

The filing is available for review at the Commission in the Public Reference Room or may be viewed on the Commission's website web at http://www.ferc.gov using the “eLibrary” link. Enter the docket number excluding the last three digits in the docket number field to access the document. For assistance, contact FERC at FERCOnlineSupport@ferc.gov or call toll-free, (886) 208-3676 or TYY, (202) 502-8659.

Any questions regarding this application should be addressed to Jerrod L. Harrison, 488 8th Avenue, San Diego, CA 92101, by telephone at (619) 696-2987, or by email at jharrison@sempraglobal.com.

On June 25, 2019, Commission staff granted Applicants' affiliate and predecessor in interest, PALNG Holdings, request to utilize the Pre-Filing Process and assigned Docket No. PF19-5-000 to staff activities involved in the Expansion Project. Now, as of the filing of this application on February 19, 2020, the Pre-Filing Process for this project has ended. From this time forward, this proceeding will be conducted in CP20-55-000, as noted in the caption of the Notice.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the EA for this proposal. The filing of the EA in the Commission's public record for this proceeding or the issuance of a Notice of Schedule for Environmental Review will serve to notify federal and state agencies of the timing for the completion of all necessary reviews, and the subsequent need to complete all federal authorizations within 90 days of the date of issuance of the EA.

There are two ways to become involved in the Commission's review of this project. First, any person wishing to obtain legal status by becoming a party to the proceedings for this project should, on or before the comment date stated below file with the Federal Energy Regulatory Commission, 888 First Street NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 3 copies of filings made in the proceeding with the Commission and must provide a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list and will be notified of any meetings associated with the Commission's environmental review process. Environmental commenters will not be required to serve copies of filed documents on all other parties. However, the non-party commenters will not receive copies of all documents filed by other parties or issued by the Commission and will not have the right to seek court review of the Commission's final order.

As of the February 27, 2018 date of the Commission's order in Docket No. CP16-4-001, the Commission will apply its revised practice concerning out-of-time motions to intervene in any new Natural Gas Act section 3 or section 7 proceeding.¹ Persons desiring to become a party to a certificate proceeding are to intervene in a timely manner. If seeking to intervene out-of-time, the movant is required to “show good cause why the time limitation should be waived,” and should provide justification by reference to factors set forth in Rule 214(d)(1) of the Commission's Rules and Regulations.²

¹ Tennessee Gas Pipeline Company, L.L.C., 162 FERC ¶ 61,167 at ¶ 50 (2018).

² 18 CFR 385.214(d)(1).

The Commission strongly encourages electronic filings of comments, protests and interventions in lieu of paper using the “eFiling” link at http://www.ferc.gov. Persons unable to file electronically should submit an original and 3 copies of the protest or intervention to the Federal Energy regulatory Commission, 888 First Street NE, Washington, DC 20426.

Comment Date: 5:00 p.m. Eastern Standard Time on March 25, 2020.

Dated: March 4, 2020.
Nathaniel J. Davis, Sr.,
Deputy Secretary.

[FR Doc. 2020-04872 Filed 3-9-20; 8:45 am]

BILLING CODE 6717-01-P